DEPARTMENT OF AGRICULTURE

Forest Service

Black Hills National Forest, Northern Hills Ranger District, South Dakota, Telegraph Forest Management Project

AGENCY: Forest Service, USDA.

ACTION: Notice of intent to prepare an environmental impact statement.

SUMMARY: The Forest Service will prepare an environmental impact statement on a proposal to implement multiple resource management actions within the Telegraph Forest Management Project Area to implement the Black Hills National Forest Land and Resource Management Plan. The Telegraph Project Area covers approximately 56,172 acres of National Forest System land and approximately 7,436 acres of interspersed private land about five miles directly south of Lead, South Dakota. Proposed actions include a combination of vegetation and fuels treatments to limit the spread of mountain pine beetle and further reduce the risk of infestation. Actions are also intended to reduce the risk of catastrophic fire and to improve vegetative and structural diversity. Treatments are proposed for approximately 31,722 acres of National Forest System Lands. Approximately 83 miles of new road construction would be necessary to carry out the proposed treatments.

DATES: Comments concerning the scope of the analysis would be most helpful if received by April 14, 2008. The draft environmental impact statement is expected to be available July 2008, and the final environmental impact statement is expected to be completed by September 2008.

ADDRESSES: Send written comments to Rhonda O'Byrne, District Ranger, Northern Hills Ranger District at 2014 North Main Street, Spearfish, SD 57783. Oral comments may be submitted by telephone at (605) 642-4622. Electronic comments may be submitted via e-mail at comments-rocky-mountain-black-hills-northern-hills@fs.fed.us. If submitting electronic comments, please include “Telegraph Project” in the subject line.

FOR FURTHER INFORMATION CONTACT: Jackie Groce, Natural Resource Planner, Northern Hills Ranger District, 2014 North Main Street, Spearfish, SD 57783. Telephone number: (605) 642-4622.

SUPPLEMENTARY INFORMATION:

Purpose of and Need for Action

The primary purpose of and need for action in the Telegraph project area is to reduce the risk of catastrophic fire and insect events. Existing conditions indicate that insect risk ratings and fire hazard ratings are higher than desired. There is an opportunity to move toward Forest-wide objectives outlined for managing insect risk and fire hazard in the current Black Hills National Forest Land and Resource Management Plan (Forest Plan).

In addition, there is a need to enhance structural and vegetative diversity within the project area. Existing conditions indicate that movement toward a more desirable distribution of structural stages for ponderosa pine stands in areas managed for a resource production emphasis could be achieved through vegetation treatments. There are also opportunities to enhance the condition of lodgepole pine and aspen stands in the project area to help ensure their continued persistence.

Finally, in line with Forest Plan objectives, there is a need to contribute to local and regional economies by providing commercial timber harvest opportunities.

Proposed Action

The proposed action is intended to be responsive to the purpose of and need for action specified for this project and to move conditions within the project area toward more desirable conditions as described in the Forest Plan. The proposed action includes a variety of commercial and non-commercial vegetation and fuels treatments. Some treatments will stand alone, while others include initial treatments as well as follow-up treatments. The following proposed activities will be designed so that they are consistent with Forest Plan Standards and Guidelines:

• Commercial Hardwood Enhancement (1611 acres)

• Commercial Lodgepole Pine Enhancement (405 acres)

• Commercial Overstory Removal/Pre-commercial Thinning (9350 acres)

• Commercial Overstory Removal/Pre-commercial Thinning/Prescribed Burning (1037 acres)

• Commercial Seed Cut/Pre-commercial Thinning/Prescribed Burning (2741 acres)

• Commercial Thinning/Pre-commercial Thinning/Prescribed Burning (8675 acres)

• Meadow Enhancement (293 acres)

• Pre-commercial Thinning (3055 acres)

• Pre-commercial Thinning/Prescribed Burning (177 acres)

• Prescribed Burning (4312 acres)

• Planting of Native Species (66 acres)

To facilitate these vegetation treatments, an estimated 83 miles of new National Forest System road would need to be constructed, and 29 miles of currently unclassified road would be added to the system. These roads would be closed following harvest activities. The proposal would also require use of approximately 166 miles of existing National Forest System road. These system roads would need to be prepared for use. Preparation could range from minimal maintenance activities to reconstruction of the road template, depending on the current condition of the road.

Responsible Official

Rhonda O'Byrne, District Ranger, Northern Hills Ranger District, 2014 North Main Street, Spearfish, SD 57783.

Nature of Decision To Be Made

The decision to be made is whether or not to approve the proposed action or alternatives at this time. No Forest Plan amendments are proposed.

Scoping Process

Comments and input regarding the proposed action are being requested from the public and other interested parties in conjunction with this notice of intent. The comment period will be open for thirty days, beginning on the date of publication of this notice of intent. Public information meetings regarding this proposal are being scheduled for early April.

Comment Requested

This notice of intent initiates the scoping process which guides the development of the environmental impact statement. It is our desire to involve interested parties and especially adjacent landowners in identifying the issues related to proposed activities.

Comments will assist in identification of key issues and opportunities to develop project alternatives and design criteria.

Early Notice of Importance of Public Participation in Subsequent Environmental Review

A draft environmental impact statement will be prepared for comment. The comment period on the draft environmental impact statement will be 45 days (beginning approximately in July 2008) from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions (Vermont Yankee Nuclear Power Corp. v. NRDC, 435 U.S. 519, 553 (1978)). Also, environmental objections that could be raised at the draft environmental impact statement stage but that are not raised until after completion of the final environmental impact statement may be waived or dismissed by the courts (City of Angoon v. Hodel, 803 F.2d 1016, 1022 (9th Cir. 1986) and Wisconsin Heritages, Inc. v. Harris, 490 F. Supp. 1334, 1338 (E.D. Wis. 1980)). Because of these court rulings, it is very important that those interested in this proposed action participate by the close of the 45 day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection (40 CFR 1501.7 and 1508.22; Forest Service Handbook 1909.15, Section 21).

Dated: March 10, 2008.
Dennis Jaeger,
Deputy Forest Supervisor, Black Hills National Forest.

[FR Doc. E8-5131 Filed 3-14-08; 8:45 am]

BILLING CODE 3410-11-M